POSTAL SERVICE

39 CFR Part 20

Global Express Mail

AGENCY: Postal Service.

ACTION: Interim rule.

SUMMARY: Pursuant to its authority under 39 U.S.C. 407, the Postal Service will offer a 5 percent discount off of regular postage for all Global Express Mail ™ shipments paid through the shipping site at www.usps.com. The discount will apply only to the basic portion of Global Express Mail published rates. It would not apply to pick-up service charges, additional merchandise insurance coverage fees, or shipments made under an International Customized Mail agreement.

EFFECTIVE DATE: November 1, 2001.

ADDRESSES: Written comments should be sent to the Manager, International Marketing, International Business, U.S. Postal Service, 1735 N. Lynn Street, Arlington, VA 22209-6020.

Copies of all written comments will be available for public inspection between 9 a.m. and 4 p.m., Monday through Friday, in International Business, 2nd Floor, 1735 N. Lynn Street, Arlington, VA 22209-6020.

FOR FURTHER INFORMATION CONTACT: Angus MacInnes, (703) 292-3601

SUPPLEMENTARY INFORMATION: The Postal Service is establishing changes in conditions for certain mailing categories to automatically reduce every payment transaction by 5 percent for all Global Express Mail purchased at basic published prices and paid on the shipping site at www.usps.com. The discount will be deducted from each piece paid for through the Web site. The discount will be offered on postage only; it does not apply to pickup fees, any special fees, or postage for shipments made under an International Customized Mail agreement.

The Postal Service established the shipping site at www.usps.com to offer an online capability for customers to be able to prepare, ship, and pay for service shipments. Payment will be made using an online postage capability. Global Express Mail will be included in the services that are offered through this Web site. The discount is similar to the ones that are offered for Global Express Guaranteed shipments that are made through the same Web site and for Global Express Mail shipments that are paid for through an Express Mail Corporate Account.

As required under the Postal Reorganization Act, these changes will result in conditions of mailing that do not apportion the costs of the service, so the overall value of the service to users is fair and reasonable, and not unduly or unreasonably discriminatory or preferential.

Although the Postal Service is exempted by 39 U.S.C. 410(a) from the advanced notice requirements of the Administrative Procedure Act regarding rulemaking (5 U.S.C. 553), interested parties are invited to submit written data, views, or comments regarding this interim rule to the address above.

List of Subjects in 39 CFR Part 20

Foreign relations, international postal services.

PART 20—[AMENDED]

1. The authority citation for 39 CFR part 20 continues to read as follows:

Authority: 5 U.S.C. 552(a); 39 U.S.C. 401, 404, 407, 408

2. The International Mail Manual (IMM) is amended to incorporate the following changes:

International Mail Manual (IMM)

* * * * *

2 Conditions for Mailing

* * * * *

220 Global Express Mail

* * * * *

222 Postage

* * * * *

[Add new 222.13 as follows:]

222.13 Online Rates—General

Discounted rates apply to Global Express Mail (EMS) customers who prepare and pay for Global Express Mail shipments online using the shipping site at www.usps.com.

222.131 Eligibility for Online Discounts

To be eligible for discounts for purchasing Global Express Mail online, customers must register via the shipping site at www.usps.com. Registration is accomplished by selecting the designated icon on the web site and following the accompanying instructions. This one-time registration will establish a shipping record and a customer history. To be eligible for online discounts, customers must prepare their shipping labels and pay for their shipments online using a credit card. The following credit cards are accepted for payment online: American Express, Diner's Club, Discover, MasterCard, and Visa.

222.132 Online Discounts

Global Express Mail published rates will be reduced by 5 percent for all payments made through the shipping site at www.usps.com. The discount applies only to the postage portion of Global Express Mail rates. It does not apply to the pickup service charge, additional merchandise insurance coverage fees, or shipments made under an International Customized Mail agreement.

222.2 Payment of Postage

222.21 Methods of Payment

[Revise 222.21 to read as follows:]

Global Express Mail items may be paid by postage stamps, postage validation imprinter (PVI) labels, postage meter stamps, information based indicia (IBI), or through the use of an Express Mail corporate account.

* * * * *

224 Preparation Requirements

224.1 Preparation by Sender

[Revise item a to read as follows:]

a. Complete the “From” and “To” portion of Label 11-B, Express Mail Post Office to Addressee, or online label for each piece of mail and affix the completed label to each piece.

* * * * *

224.2 Preparation by Acceptance Employee

* * * * *

[Revise item d to read as follows:]

d. Give the Customer Receipt copy to the mailer and retain the Finance Copy. Peel off the backing of the remaining portion and affix it to the item. For online shipments, customer receipts are not necessary; for non-IRT and POS offices, record the required Finance information on the special form provided for this purpose.

* * * * *

Stanley F. Mires,
Chief Counsel, Legislative.

[FR Doc. 01-26444 Filed 10-18-01; 8:45 am]

BILLING CODE 7710-12-P